NATIONAL SCIENCE FOUNDATION

Sunshine Act; Meeting

Agency Holding Meeting: National Science Foundation, National Science Board and its Subdivisions.

Date and Time: February 10, 2006.

February 10, 2006,

9:30 a.m.-11:30 a.m. (MT)

Sessions:

9:30 a.m.-10:30 a.m. Open.

10:30 a.m.-10:40 a.m. Executive Closed.

10:40 a.m.-10:50 a.m. Closed.

10:50 a.m.-11:30 a.m. Open.

Place: University of Colorado, University Memorial Center, Rooms 235 and 245, Boulder, Colorado.

Contact Information: Please refer to the National Science Board Web site (www.nsf.gov/nsb) for updated schedule. NSB Office: Mrs. Susan E. Fannoney (703) 292-7000.

Status: Part of this meeting will be closed to the public. Part of this meeting will be open to the public.

Matters to be Considered:

Friday, February 10, 2006

Open

Committee on Programs and Plans (9:30 a.m.-10:30 a.m.) Room 235

• Approval of November 2005 Minutes

• Status Report on Hurricane Science & Engineering Task Force

• NSB Information Items:

—Large Hadron Collider Plans for the Transition from the Pre-Operations Phase to the Operations Phase

—Plan to Conduct a Renewal Review of the National High Magnetic Field Laboratory

• Status Report: Cyberinfrastructure Vision

Committee on Education and Human Resources (9:30 a.m.-10:30 a.m.) Room 245

• Approval of December 2005 Minutes

• The National Science Digital Library

• NSF Integration of Research and Education

• Focus of NSB/EHR Activities in 2006

Plenary Session of the Board (10:30 a.m.-11:30 a.m.)

Executive Closed Session (10:30 a.m.-10:40 a.m.) Room 235

• Approval of December 2005 Executive Closed Minutes

• Election of Executive Committee Member

Closed Session (10:40 a.m.-10:50 a.m.) Room 235

• Approval of December 2005 Closed Session Minutes

• Update on NSF Executive Personnel Actions

Open Session (10:50 a.m.-11:30 a.m.) Room 235

• Approval of December 2005 Minutes

• Resolution to Close March 2006

• Chairman's Report

• Director's Report

—Update on development of NSF Strategic Plan

—Overview of President's FY 2007 NSF Budget Request

—NSF Congressional Update

• Open Committee Reports

Michael P. Crosby,
Executive Officer and NSB Office Director.

[FR Doc. 06-949 Filed 1-27-06; 4:36 pm]

BILLING CODE 7555-01-P